DEPARTMENT OF HEALTH AND HUMAN SERVICES

National Institutes of Health

National Institutes of Nusuring Research; Amended Notice of Meeting

Notice is hereby given of a change in the meeting of the National Institute of Nursing Research Special Emphasis Panel, July 25, 2002, 8 a.m. to July 25, 2002, 5 p.m., Bethesda Marriott Suites, 6711 Democracy Boulevard, Bethesda, MD, 20817 which was published in the Federal Register on June 21, 2002, 67; Number 120.

The meeting will be held on 7/30/2002—8 a.m.-5 a.m.; and 7/31/2002 8 a.m. to Adjournment instead of 7/15/2002. The meeting is closed to the public.

Dated: July 10, 2002.
LaVerne Y. Stringfield,
Director, Office of Federal Advisory Committee Policy.

[FR Doc. 02-17934 Filed 7-16-02; 8:45 am]

BILLING CODE 4140-01-M